DEPARTMENT OF JUSTICE

Antitrust Division

Notice Pursuant to the National Cooperative Research and Production Act of 1993—ODVA, Inc.

Notice is hereby given that, on July 12, 2021, pursuant to Section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, Radiometric Services & Instruments LLC, Frederick, MD; Ningbo AirTAC Automation Industrial Co., Ltd., Ningbo City, PEOPLE'S REPUBLIC OF CHINA; Amphenol Canada Corp., Toronto, CANADA; Rheonik Messtechnik GmbH, Odelzhausen, GERMANY; Shenzhen Inovance Technology Co., Ltd., Shenzhen, PEOPLE'S REPUBLIC OF CHINA; and JFcontrol Co., Ltd., Suwon-si, SOUTH KOREA, have been added as parties to this venture.

Also, RFID, Inc., Dothan, AL, has withdrawn as a party to this venture.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on April 6, 2021. A notice was published in the Federal Register pursuant to Section 6(b) of the Act on April 20, 2021 (86 FR 20522).

Suzanne Morris,
Chief, Premerger and Division Statistics, Antitrust Division.

[FR Doc. 2021-18005 Filed 8-20-21; 8:45 am]

BILLING CODE 4410-11-P